DEPARTMENT OF DEFENSE

Department of the Navy

Notice of Intent To Prepare an Environmental Impact Statement for Military Readiness Activities at the Fallon Range Training Complex and To Announce Public Scoping Meetings

AGENCY: Department of the Navy, DoD.

ACTION: Notice.

SUMMARY: Pursuant to Section 102(2)(c) of the National Environmental Policy Act of 1969, as implemented by the Council on Environmental Quality Regulations (40 Code of Federal Regulations parts 1500-1508), the Department of the Navy (DoN) announces its intent to prepare an Environmental Impact Statement (EIS) to assess the potential environmental consequences of continued and enhanced military training in the Fallon Range Training Complex (FRTC) Study Area. The FRTC Study Area is a set of well-defined geographic areas in the high desert of northern Nevada, encompassing: Special Use Airspace, including restricted areas, Military Operations Areas, and Air Traffic Control Assigned Airspace; land training ranges and stationary land training areas; fixed and mobile land targets, and control facilities; Threat Electronic Warfare (EW), Early Warning Radars and Surface to Air Missile systems and emulators; and instrumentation facilities. The DoN is inviting the U.S. Bureau of Land Management and the Bureau of Reclamation to be cooperating agencies in the preparation of the EIS.

Dates and Addresses: Four open house information sessions will be held between 5:00 p.m. and 7:00 p.m. on:

1. Monday, June 10, 2013, at Churchill County Commission Chambers, 155 North Taylor Street, Fallon, Nevada 89406.

2. Tuesday, June 11, 2013, at Crescent Valley Town Office Boardroom, 5045 Tenabo Avenue, Crescent Valley, Nevada 89821.

3. Wednesday, June 12, 2013, at Veterans of Foreign Wars Post 3677 Main Hall, 426 D Avenue, Gabbs, Nevada 89409.

4. Thursday, June 13, 2013, at Emma Nevada Town Hall, 135 Court Street, Austin, Nevada 89310.

Each of the four open house information sessions will be informal and consist of information stations staffed by DoN representatives. Additional information concerning each open house will be available on the EIS Web page located at: http://www.FRTCEIS.com.

FOR FURTHER INFORMATION CONTACT: Naval Facilities Engineering Command Southwest; Attention: Ms. A. Kelley, Code EV21.AK; 1220 Pacific Highway; Building 1, 5th Floor; San Diego, California 92132.

SUPPLEMENTARY INFORMATION: In 2000, the DoN completed an EIS for Proposed FRTC Requirements. The DoN's new Proposed Action is to continue and enhance training activities within the existing FRTC. In order to support the DoN's requirements for fleet readiness, the DoN proposes to adjust baseline training activities from current levels to the levels needed to accommodate evolving mission requirements, including those resulting from training, tactics development, testing, and eventual introduction of new platforms (aircraft) and weapons systems into the Fleet.

The FRTC is a set of well-defined geographic areas in the high desert of northern Nevada encompassing multiple airspaces, land range areas, and electronic systems used primarily for training operations. The FRTC encompasses air and land training areas in the mid-western portion of Nevada. In total, the complex encompasses 241,127 acres of land and 14,182 square nautical miles of airspace. A portion of the FRTC, Naval Air Station Fallon, is located six miles to the southeast of the city of Fallon.

The purpose of the Proposed Action is to conduct and facilitate training activities at the FRTC to ensure that the DoN achieves its mission, to maintain, train, and equip combat-ready naval forces capable of winning wars, deterring aggression, and maintaining freedom. The alternatives analyzed in the FRTC EIS are as follows.

1. No Action Alternative: Baseline training activities, as defined by the tempo and type of training, when averaged over recent representative years.

2. Alternative 1: Overall adjustments to types and levels of activities, from the baseline as necessary to support current and planned DoN training requirements, from 8,558 annual activities under the No Action Alternative to 9,147 annual activities. In addition, the DoN proposes range investments involving upgrades to the Tactical Combat Training System, upgrade of Threat EW Systems, and installation of fiber optic telecommunications infrastructure.

3. Alternative 2: Consists of Alternative 1 plus a 10 percent increase annually for all training activities, from 9,147 annual activities under Alternative 1 to 10,061 annual activities.

Resource areas to be addressed in the EIS will include, but not be limited to, terrestrial resources and biological resources, geology, soils and water resources, land use and recreation, air quality, noise, cultural resources, transportation, socioeconomics, environmental justice, and public health and safety.

The scoping process will be used to identify community concerns and issues that will be addressed in the EIS. Federal agencies, state agencies, local agencies, Native American Indian Tribes and Nations, the public, and interested persons are encouraged to provide comments to the DoN to identify specific issues or topics of environmental concern that the commenter believes the DoN should consider. All comments, provided orally or in writing at the scoping meetings, via the project Web site, or mail will receive the same consideration during EIS preparation. All comments must be postmarked or received online no later than July 8, 2013. Comments should be mailed to: Naval Facilities Engineering Command Southwest; Attention: Ms. A. Kelley, Code EV21.AK; 1220 Pacific Highway; Building 1, 5th Floor; San Diego, California 92132.

Dated: May 17, 2013.
C.K. Chiappetta,
Lieutenant Commander, Office of the Judge Advocate General, U.S. Navy, Federal Register Liaison Officer.

[FR Doc. 2013-12423 Filed 5-24-13; 8:45 am]

BILLING CODE 3810-FF-P